DEPARTMENT OF ENERGY

Federal Energy Regulatory Commission

Combined Notice of Filings

Take notice that the Commission has received the following Natural Gas Pipeline Rate and Refund Report filings:

Filings Instituting Proceedings

Docket Numbers: RP17-1048-000.

Applicants: Guardian Pipeline, L.L.C.

Description: § 4(d) Rate Filing: Sales and Purchases of Gas for Operational Purposes to be effective 10/16/2017.

Filed Date: 9/14/17.

Accession Number: 20170914-5030.

Comments Due: 5 p.m. ET 9/26/17.

Docket Numbers: RP17-1049-000.

Applicants: Transcontinental Gas Pipe Line Company.

Description: Compliance filing: Annual Cash-Out Report Period Ending July 31, 2017.

Filed Date: 9/14/17.

Accession Number: 20170914-5049.

Comments Due: 5 p.m. ET 9/26/17.

Docket Numbers: RP17-1051-000.

Applicants: Tallgrass Interstate Gas Transmission, L.

Description: § 4(d) Rate Filing: Administrative Updates to Tariff to be effective 10/15/2017.

Filed Date: 9/15/17.

Accession Number: 20170915-5106.

Comments Due: 5 p.m. ET 9/27/17.

Docket Numbers: RP17-1052-000.

Applicants: Trailblazer Pipeline Company LLC.

Description: § 4(d) Rate Filing: Fuel Tracker—2017 November to be effective 11/1/2017.

Filed Date: 9/15/17.

Accession Number: 20170915-5127.

Comments Due: 5 p.m. ET 9/27/17.

Docket Numbers: RP17-1053-000.

Applicants: Dominion Energy Carolina Gas Transmission.

Description: § 4(d) Rate Filing: DECG—2017 FRQ and TDA Report to be effective 11/1/2017.

Filed Date: 9/15/17.

Accession Number: 20170915-5133.

Comments Due: 5 p.m. ET 9/27/17.

Docket Numbers: RP17-884-001.

Applicants: Trailblazer Pipeline Company LLC.

Description: Compliance filing: Correction to previously filed NRA to be effective 7/1/2017.

Filed Date: 9/15/17.

Accession Number: 20170915-5100.

Comments Due: 5 p.m. ET 9/27/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2017.
Nathaniel J. Davis, Sr.,
Deputy Secretary.

[FR Doc. 2017-20255 Filed 9-21-17; 8:45 am]

BILLING CODE 6717-01-P